ENVIRONMENTAL PROTECTION AGENCY

[FRL-8742-9]

Leviathan Mine Superfund Site; Notice of Proposed CERCLA Administrative Order on Consent

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed administrative settlement agreement and order on consent (“Settlement Agreement”) with Atlantic Richfield Company (“Respondent”) concerning the Leviathan Mine Superfund Site in Alpine County, California (“Site”). Section 122(h) of CERCLA, 42 U.S.C. 9622(h), provides EPA with the authority to enter into administrative settlements for claims for costs incurred by EPA under CERCLA.

The Settlement Agreement resolves certain claims under Sections 106 and 107 of CERCLA, 42 U.S.C. 9606, 9607. Under the Settlement Agreement, Respondent will perform certain response actions at the Site through July 31, 2013, pay over $1.7 million to reimburse the United States for certain past costs, pay certain future response costs, pay a civil penalty of $90,000, and perform a specified supplemental environmental project in Douglas County, Nevada, with costs estimated at $400,000. EPA estimates that the response actions to be performed under the Settlement Agreement will cost approximately $5,600,000.

The Settlement Agreement and its appendices may be examined at the U.S. Environmental Protection Agency Region IX, 75 Hawthorne Street, Office of Regional Counsel, San Francisco, California 94105, and also at any of the following public information repositories:

Nevada State Library & Archives, 100 N. Stewart Street, Carson City, NV 89701; Douglas County Public Library, 1625 Library Lane, Minden, NV 89423; or Alpine County Library, 270 Laramie Street, Markleeville, CA 96120.

The Settlement Agreement, together with descriptions of the removal action and the supplemental environmental project to be performed under the Settlement Agreement may also be examined at the following EPA Web site: http://www.epa.gov/region09/LeviathanMine. A copy of the Settlement Agreement may also be obtained by mail from Joshua Wirtschafter, U.S. Environmental Protection Agency Region IX, 75 Hawthorne Street (mail code ORC-3), San Francisco, California 94105-3901.

DATES: EPA must receive comments by December 24, 2008 relating to the Settlement Agreement. EPA will consider all comments it receives during this period, and may modify or withdraw its consent to the settlement if any comments disclose facts or considerations indicating that the settlement is inappropriate, improper, or inadequate.

ADDRESSES: Written comments may be submitted to Joshua Wirtschafter, U.S. Environmental Protection Agency Region IX, 75 Hawthorne Street (mail code ORC-3), San Francisco, California 94105-3901. Written comments may also be e-mailed to Joshua Wirtschafter at Wirtschafter.Joshua@epa.gov or faxed to him at (415) 947-3570.

FOR FURTHER INFORMATION CONTACT: Additional information about the Leviathan Mine Super-fund Site and about the proposed Settlement Agreement may be obtained by contacting Joshua Wirtschafter, Esq. at the above e-mail address or at (415) 972-3912.

Dated: November 13, 2008.
Keith Takata,
Director, Superfund Division, Region IX.

[FR Doc. E8-27751 Filed 11-21-08; 8:45 am]

BILLING CODE 6560-50-M